DEPARTMENT OF STATE

[Public Notice 8363]

In the Matter of the Designation of Nayif Bin-Muhammad al-Qahtani as a Specially Designated Global Terrorist Pursuant to Section 1(b) of Executive Order 13224, as Amended

In accordance with section 1(b) of Executive Order 13224 of September 23, 2001, as amended (“the Order”), I hereby determine that the individual known as Nayif Bin-Muhammad al-Qahtani, also known as Nayif Bin-Muhammad al-Qahtani, also known as Nayef Bin Muhammad al-Qahtani, also known as Nayif Muhammad al-Qahtani, also known as Nayf Mohammed al-Qahtani, also known as Mohammad Said al-Qahtani Alkodri, also known as Naif Mohammed Saeed al-Kodari al-Qahtani, also known as Nayef Bin Mohamed al-Khatani, also known as Mohammed Naif al-Khatani, also known as Nayef bin Mohamed al-Khatany, also known as Al-Qahtani Abohemem, also known as Abi Hamam, also known as Abu-Hamam, also known as Abu-Humam, also known as Abu-Hammam, also known as Abu Hammam al-Qahtani, no longer meets the criteria for designation under the Order, and therefore I hereby revoke the designation of the aforementioned individual as a Specially Designated Global Terrorist pursuant to section 1(b) of the Order.

This notice shall be published in the Federal Register.

Dated: June 19, 2013.
John F. Kerry,
Secretary of State.

[FR Doc. 2013-15552 Filed 6-27-13; 8:45 am]

BILLING CODE 4710-10-P